DEPARTMENT OF ENERGY

Federal Energy Regulatory Commission

[Docket No. EC00-86-000, et al.]

DTE Energy Company, et al.; Electric Rate and Corporate Regulation Filings

May 16, 2000.

Take notice that the following filings have been made with the Commission:

1. DTE Energy Company, The Detroit Edison Company, International Transmission Company

[Docket No. EC00-86-000]

Take notice that on May 4, 2000, DTE Energy Company, The Detroit Edison Company and International Transmission Company filed a joint application for authorization to transfer jurisdictional transmission assets pursuant to Section 203 of the Federal Power Act.

Comment date: June 5, 2000, in accordance with Standard Paragraph E at the end of this notice.

2. Adirondack Hydro Development Corporation, Hudson Falls, LLC

[Docket No. EC00-88-000]

Take notice that on May 8, 2000, Adirondack Hydro Development Corporation and Hudson Falls, LLC, tendered for filing a joint application under Section 203 of the Federal Power Act for authorization to sell half of their limited and general partnership interests in Northern Electric Power Co., L.P. (Northern) to Bloomfield Hudson Falls, Inc. Northern is a public utility that owns a 36.1 MW qualifying facility located in upstate New York.

Comment date: June 7, 2000, in accordance with Standard Paragraph E at the end of this notice.

3. LSP-Nelson Energy, LLC

[Docket No. EG00-147-000]

Take notice that on May 9, 2000, LSP-Nelson Energy, LLC (Applicant), a Delaware limited liability company with a principal place of business at Two Tower Center, 20th Floor, East Brunswick, New Jersey 08816, filed with the Federal Energy Regulatory Commission (Commission), an application for determination of exempt wholesale generator status pursuant to Part 365 of the Commission's regulations. The Applicant will begin constructing a natural gas-fired combined cycle electric generation facility with a nominal capacity of approximately one thousand one hundred (1,100) megawatts in Nelson Township, Lee County, Illinois (the Facility). The Facility is scheduled to commence commercial operation in the Spring of 2003. The Applicant is engaged directly, or indirectly through one or more affiliates as defined in Section 2(a)(11)(B) of the Public Utility Holding Company Act of 1935, and exclusively in the business of owning or operating, or both owning and operating, all or part of one or more eligible facilities and selling electric energy from the Facility at wholesale.

Comment date: June 6, 2000, in accordance with Standard Paragraph E at the end of this notice. The Commission will limit its consideration of comments to those that concern the adequacy or accuracy of the application.

4. Midwest Electric Power, Inc.

[Docket No. EG00-149-000]

Take notice that on May 11, 2000, Midwest Electric Power, Inc. (MEP), 2100 Portland Road, P.O. Box 165, Joppa, IL 62953 filed with the Federal Energy Regulatory Commission an application for determination of exempt wholesale generator status pursuant to part 365 of the Commission's regulations.

MEP is a wholly-owned subsidiary of Electric Energy, Inc. (EEInc.), which owns and operates a coal-fired generating plant in Joppa, IL. MEP intends to own and/or operate combustion turbines with a total generating capacity of approximately 260 MW to be located at the site of the existing EEInc. generating facilities. All of the capacity and energy available from those units will be sold at wholesale.

Comment date: June 6, 2000, in accordance with Standard Paragraph E at the end of this notice. The Commission will limit its consideration of comments to those that concern the adequacy or accuracy of the application.

5. Williams Flexible Generation, LLC

[Docket No. EG00-150-000]

Take notice that on May 11, 2000, Williams Flexible Generation, LLC (WFG) tendered for filing pursuant to Part 365 of the Commission's Regulations (18 CFR 365), its application for determination of exempt wholesale generator status.

WFG is a wholly owned subsidiary of Williams Distributed Power Services, Inc. and initially will own the “Georgia Project,” which consists of generating units at eighteen separate sites, as follows: DeWitt, located in Brooks County, Georgia; Bryant, located in Tift County, Georgia; Farmer's Gin, located in Colquitt County, Georgia; Doerun, located in Colquitt County, Georgia; Moultrie Station, located in Colquitt County, Georgia; Dublin, located in Laurens County, Georgia; Danville, located in Twiggs County, Georgia; Wrens, located in Jefferson County, Georgia; Louisville, located in Jefferson County, Georgia; Hammonds Crossing, located in Gwinnett County, Georgia; Highway 141, located in Gwinnett County, Georgia; Highway 20, located in Gwinnett County, Georgia; Baker Highway, located in Coffee County, Georgia; Pine Grove, located in Appling County, Georgia; Hawkinsville #1, located in Pulaski County, Georgia; Bratcher Creek, located in Dooly County, Georgia; Smith, located in Barrow County, Georgia; and Walnut Grove, located in Walton County, Georgia.

Comment date: June 6, 2000, in accordance with Standard Paragraph E at the end of this notice. The Commission will limit its consideration of comments to those that concern the adequacy or accuracy of the application.

6. Ameren Energy Development Company

[Docket No. EG00-151-000]

Take notice that on May 11, 2000, Ameren Energy Development Company (Development Co.), c/o Ameren Services, 1901 Chouteau Avenue, St. Louis, MO 63166, filed with the Federal Energy Regulatory Commission an application for determination of exempt wholesale generator status pursuant to Part 365 of the Commission's regulations.

Development Co. is the corporate parent of Ameren Energy Generating Company (Generating Co.), a generation-only company which recently acquired five electric generating stations from Central Illinois Public Service Company (AmerenCIPS) with approximately 2900 MW of generating capacity. In addition to owning the common stock of Generating Co., Development Co. will acquire and finance certain new combustion turbine generators to be owned and operated by Generating Co. All of the capacity and energy available to Generating Co. is sold exclusively to wholesale purchasers.

Comment date: June 6, 2000, in accordance with Standard Paragraph E at the end of this notice. The Commission will limit its consideration of comments to those that concern the adequacy or accuracy of the application.

7. Ameren Services Company

[Docket No. ER00-1762-001]

Take notice that on May 11, 2000, Ameren Services Company (ASC), tendered for filing an executed Network Integration Transmission Service Agreement and an executed Network Operating Agreement, between ASC and the City of Fredericktown. ASC asserts that the purpose of the agreements is to permit ASC to provide service over its transmission and distribution facilities to the City of Fredericktown pursuant to the Ameren Open Access Tariff. The executed agreements supersede an unexecuted Network Service Agreement and an unexecuted Network Operating Agreement previously filed on March 1, 2000.

Comment date: June 1, 2000, in accordance with Standard Paragraph E at the end of this notice.

8. NorthWestern Public Service, a division of NorthWestern Corporation

[Docket No. ER00-2464-000]

Take notice that on May 11, 2000, NorthWestern Public Service, division of NorthWestern Corporation, tendered for filing a Petition under Commission Rules 205 and 207 and 35.14 of the Regulations of the Commission under the Federal Power Act, requesting that the Commission enter its order adopting the plan for Arbitration Case damage and interest crediting to NorthWestern's wholesale electric customers through NorthWestern's adjustment clause and waiving any provisions of such adjustment clause that might be inconsistent with such crediting plan. NorthWestern proposes to credit $5,860.58 to its wholesale electric customers in the State of South Dakota, representing arbitration award damages and interest, less certain costs incurred by NorthWestern in obtaining such damages and other coal agreement contract changes.

Comment date: June 1, 2000, in accordance with Standard Paragraph E at the end of this notice.

9. Western Resources, Inc.

[Docket No. ER00-2465-000]

Take notice that on May 11, 2000, Western Resources, Inc., tendered for filing a change to Service Schedule 6 under its FERC Electric Tariff, Original Volume No. 1. Western Resources states that the change is to realign transmission capacity available to Oklahoma Municipal Power Authority.

Notice of the filing has been served upon Oklahoma Municipal Power Authority and the Kansas Corporation Commission.

Comment date: June 1, 2000, in accordance with Standard Paragraph E at the end of this notice.

10. PacifiCorp

[Docket No. ER00-2466-000]

Take notice that on May 11, 2000, PacifiCorp tendered for filing in accordance with 18 CFR 35 of the Commission's Rules and Regulations, the fully executed to Amendment No. 3 to Contract No. 91-SAO-30005 between PacifiCorp and Western Area Power Administration.

Copies of this filing were supplied to the Washington Utilities and Transportation Commission and the Public Utility Commission of Oregon.

Comment date: June 1, 2000, in accordance with Standard Paragraph E at the end of this notice.

11. Commonwealth Edison Company

[Docket No. ER00-2467-000]

Take notice that on May 11, 2000, Commonwealth Edison Company (ComEd) tendered for filing four Non-Firm Transmission Service Agreements with the City of St. Charles, Illinois (St. Charles), the City of Batavia, Illinois (Batavia), InPower Marketing Corp. (IPMC), and Dynegy Energy Services, Inc. (DESY), and four Short-Term Firm Transmission Service Agreements with DESY, Merchant Energy Group of the Americas, Inc. (MEGA), NewEnergy, Inc. (NEI), and IPMC under the terms of ComEd's Open Access Transmission Tariff (OATT). ComEd requests that the Commission substitute the Service Agreement with MEGA for the unexecuted agreement with MEGA previously filed under the OATT in Docket No. ER00-2260-000 on April 21, 2000.

ComEd also submits for filing an updated Index of Customers reflecting the addition of St. Charles, Batavia, IPMC, DESY, and NEI, and name changes for current customers PP&L, Inc, renamed PPL Electric Utilities Corporation d/b/a PPL Utilities (PPL); PP&L EnergyPlus Co, LLC, renamed PP&L EnergyPlus LLC. (EPLUS).

ComEd requests an effective date of and accordingly, seeks waiver of the Commission's notice requirements. Copies of this filing were served on St. Charles, Batavia, IPMC, DESY, MEGA, NEI, PPL and EPLUS.

Comment date: June 1, 2000, in accordance with Standard Paragraph E at the end of this notice.

12. Portland General Electric Company

[Docket No. ER00-2468-000]

Take notice that on May 11, 2000, Portland General Electric Company (PGE), on May 9, 2000, tendered for filing proposed changes in its FERC Electric Service Tariff No. 11 to reflect its affiliation with PG&E Energy Services Corporation (PG&E ES). PGE also filed a revised Code of Conduct that will generically restrict the relationship of PGE with all of its affiliates with market-based rate authority, including PG&E ES.

Copies of the filing were served upon the Oregon Public Utility Commission, the California Public Utility Commission, the California Independent System Operator Corporation, and PG&E Energy Services Corporation.

Comment date: June 1, 2000, in accordance with Standard Paragraph E at the end of this notice.

13. Northeast Utilities Services Company

[Docket No. ER00-2471-000]

Take notice that on May 9, 2000, Northeast Utilities Service Company (NUSCO), on behalf of its affiliate, The Connecticut Light and Power Company (CL&P), tendered for filing Notice of Cancellation of the Federal Energy Regulatory Commission (FERC) rate schedules and supplements thereto for Unit Contract Connecticut Yankee, Rate Schedule FERC No. CL&P 225, by and between CL&P and the Connecticut Municipal Electric Energy Cooperative (CMEEC).

NUSCO requested that the cancellation become effective as of April 30, 2000.

The termination of this contract is part of a larger settlement of disputes between CL&P and CMEEC, including disputes related to the operation, shutdown and decommissioning of the Connecticut Yankee nuclear plant.

Copies of the filing were served upon the jurisdictional customer, CMEEC, as well as upon CL&P and the Connecticut Department of Public Utilities Control.

Comment date: May 30, 2000, in accordance with Standard Paragraph E at the end of this notice.

14. Williams Flexible Generation, LLC

[Docket No. ER00-2469-000]

Take notice that on May 11, 2000, Williams Flexible Generation, LLC tendered for filing pursuant to Section 205 of the Commission's Rules of Practice and Procedure, 18 CFR 385.205, its application for waivers and blanket approvals under various regulations of the Commission and for an order accepting its Electric Rate Schedule FERC No. 1.

Comment date: June 1, 2000, in accordance with Standard Paragraph E at the end of this notice.

15. Electric Energy, Inc.

[Docket No. EG00-148-000]

Take notice that on May 11, 2000, Electric Energy, Inc. (EEInc.), 2100 Portland Road, P.O. Box 165, Joppa, IL 62953 filed with the Federal Energy Regulatory Commission an application for determination of exempt wholesale generator status pursuant to Part 365 of the Commission's regulations.

EEInc. is a generation-only company, the stock of which is owned by Union Electric Company (40%), Central Illinois Public Service Company (20%), Illinova Generating Company (20%), and Kentucky Utilities Company (20%) (collectively, the Sponsors). EEInc. owns and operates a six-unit coal-fired generating plant in Joppa, IL that has a total generating capacity of 1,086 MW (the “Joppa Plant”). All of the electricity available from the Joppa Plant is sold at wholesale either to the U.S. Department of Energy, to the Sponsors, or to other wholesale purchasers. EEInc. also owns all of the outstanding common stock of Midwest Electric Power, Inc., which will own and/or operate 260 MW of combustion turbine generating capacity to be installed at the site of the Joppa Plant and sell electricity exclusively at wholesale.

Comment date: June 6, 2000, in accordance with Standard Paragraph E at the end of this notice.

Standard Paragraphs:

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-13049 Filed 5-23-00; 8:45 am]

BILLING CODE 6717-01-P